DEPARTMENT OF COMMERCE

Census Bureau

Agency Information Collection Activities; Submission to the Office of Management and Budget (OMB) for Review and Approval; Comment Request; Annual Business Survey

AGENCY: U.S. Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision to the Annual Business Survey prior to the submission of this information collection request (ICR) to OMB for approval.

DATES: To ensure consideration, comments regarding this proposed information collection must be received on or before November 3, 2025.

ADDRESSES: Interested persons are invited to submit written comments by email to Thomas.J.Smith@census.gov. Please reference Annual Business Survey in the subject line of your comments. You may also submit comments, identified by Docket Number USBC-2025-0104, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Aneta Erdie, Assistant Division Chief, Governments and Business Owners Programs, by phone at 301-763-4841, or by email at aneta.erdie@census.gov.

SUPPLEMENTARY INFORMATION:

I. Abstract

In an effort to improve the measurement of business dynamics in the United States, the Census Bureau is conducting the Annual Business Survey (ABS). The ABS combines Census Bureau firm-level collections to reduce respondent burden, increase data quality, reduce operational costs, and operate more efficiently. The ABS provides information on measures of research and development (R&D) as well as business and owner characteristics by sex, ethnicity, race, and veteran status. The ABS is co-sponsored by the National Center for Science and Engineering Statistics (NCSES) within the U.S. National Science Foundation (NSF) and conducted by the Census Bureau.

Starting in 2026, the Business Enterprise Research and Development survey (BERD) (OMB number 0607-0912) will be merged onto the ABS. This merger will result in an expanded collection of R&D on the ABS to include R&D from all in scope employer businesses and nonprofit organizations. This change comes as an effort to reduce respondent burden and streamline collections based on respondent feedback. Additionally, preliminary findings from an external assessment of the feasibility of merging the ABS and BERD indicated that it would not increase burden on respondents, although burden may change based on other selected content for the survey. The new merged ABS content will be cognitively tested and will focus on business topics such as R&D, innovation, and technology, as well as other business and owner characteristics. In line with Office of Science and Technology Policy recommendations, two questions regarding technology have been modified to also collect use and funding of cybersecurity technology and nuclear technology. These modifications have undergone expert review.

The ABS will sample 230,000 businesses and nonprofit organizations (222,000 employer business; 8,000 nonprofit organizations). The ABS includes all nonfarm employer businesses filing Internal Revenue Service (IRS) tax forms as individual proprietorships, partnerships, or any other type of corporation, with receipts of $1,000 or more. The employer sample will yield national and state R&D estimates for employer businesses as well as summary-level estimates for women-, minority-, and veteran-owned businesses at the 2-digit NAICS, U.S., state, counties and MSA levels. The Census Bureau selects some companies with certainty. All certainty cases are sure to be selected and represent only themselves. Also included are nonprofit organizations to measure their research activities. The ABS samples approximately 8,000 nonprofit organizations who are required to complete IRS form 990. The nonprofit sample will yield national estimates of R&D performance within the nonprofit sector. Of note, nonprofit organizations will only see questions relating to research activities and will not be asked any questions relating to owner demographics.

The ABS is designed to incorporate new content each survey year based on topics of relevance. Each year new questions are submitted to the OMB for approval.

The ABS collects the following information from employer businesses:

• Sex, ethnicity, race, veteran status, and other owner characteristics from the principal owner(s) of the business.

• Company information including, worldwide sales, domestic sales, number of employees, and business ownership from all employer businesses in the sample.

• Business characteristics from all employer businesses in the sample.

• Research, development, and related topics from businesses and nonprofits.

• Innovation related data and data on critical and emerging technologies (selected to be collected in 2026).

• Other potential module topics such as, cybersecurity, technology, intellectual property and technology transfer, and financing.

II. Method of Collection

The ABS is primarily collected electronically using a web-based questionnaire. Those selected for the survey receive an initial letter informing the respondents of their requirement to complete the survey as well as instructions on accessing the survey. There will be pre-notice contact for respondents who were previously in BERD informing the respondents of the consolidation of collections. Responses will be due approximately 30 days from initial mailing. Respondents will also receive a due date reminder approximately one week before responses are due. The Census Bureau plans to conduct two follow-up mailings and optional follow-ups if deemed necessary based on check-in. The Census Bureau may also plan to conduct an email follow-up to select nonrespondents reminding them to submit their report in the electronic instrument. Response data will be processed as they are received. Upon the close of the collection period, data processing will continue, and records will be edited, reviewed, tabulated, and released publicly.

III. Data

OMB Control Number: 0607-1004.

Form Number(s): ABS-1.

Type of Review: Regular submission, Request for a Revision of a Currently Approved Collection.

Affected Public: Businesses or other for-profit organizations (large and small employer businesses), nonprofit organizations.

Estimated Number of Respondents: 230,000.

Estimated Time per Response: The average ABS respondent will take 45 minutes to respond; Respondents that would have previously reported R&D on the BERD survey will take an average of 2 hours and 37 minutes to respond; Nonprofit organizations will take an average of 38 minutes to respond.

Estimated Total Annual Burden Hours: 295,858.

Estimated Total Annual Cost to Public: $0. (This is not the cost of respondents' time, but the indirect costs respondents may incur for such things as purchases of specialized software or hardware needed to report, or expenditures for accounting or records maintenance services required specifically by the collection.)

Respondent's Obligation: Mandatory.

Legal Authority: Title 13, United States Code, Sections 8(b), 131, and 182; Title 42, United States Code, Section 1861-76 (National Science Foundation Act of 1950, as amended); and Section 505 within the America COMPETES Reauthorization Act of 2010 authorize this collection. Sections 224 and 225 of Title 13, United States Code, require response from sampled firms.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-16777 Filed 8-29-25; 8:45 am]

BILLING CODE 3510-07-P